DEPARTMENT OF HEALTH AND HUMAN SERVICES

Nominations to the Advisory Committee on Blood and Tissue Safety and Availability

AGENCY: Office of HIV/AIDS and Infectious Disease Policy, Office of the Assistant Secretary for Health, Office of the Secretary, Department of Health and Human Services.

ACTION: Notice.

SUMMARY: The Office of Assistant Secretary for Health (OASH) is seeking nominations of qualified individuals to be considered for appointment as members of the Advisory Committee on Blood and Tissue Safety and Availability (ACBTSA). ACBTSA is a Federal advisory committee within the Department of Health and Human Services. Management support for the activities of this Committee is the responsibility of the OASH. The qualified individuals will be nominated to the Secretary of Health and Human Services for consideration of appointment as members of the ACBTSA. Members of the Committee, including the Chair, are appointed by the Secretary. Members are invited to serve on the Committee for up to four-year terms.

DATES: All nominations must be received no later than 4:00 p.m. ET on Friday, December 28 2018 at the address listed below.

ADDRESSES: All nominations should be sent to the ACBTSA email address at ACBTSA@hhs.gov. Alternatively, nominations can be mailed or delivered to: Mr. James Berger, Senior Advisor for Blood and Tissue Policy, Office of Assistant Secretary for Health, Department of Health and Human Services, 330 C Street SW, Room L001 Switzer Building, Washington, DC 20201. Telephone: (202) 795-7608; Email ACBTSA@hhs.gov.

FOR FURTHER INFORMATION CONTACT: Mr. James Berger, Senior Advisor for Blood and Tissue Policy. Contact information for Mr. Berger is provided above.

A copy of the Committee charter and roster of the current membership can be obtained by contacting Mr. Berger or by accessing the ACBTSA website at http://www.hhs.gov/bloodsafety.

SUPPLEMENTARY INFORMATION: The ACBTSA provides advice to the Secretary through the Assistant Secretary for Health. The Committee advises on a range of policy issues to include: (1) Broad public health, ethical and legal issues related to transfusion and transplantation safety, (2) risk communications related to blood transfusion and tissue transplantation, and (3) the identification of public health issues that affect the availability of blood, blood products, and tissues.

The Committee consists of 23 voting members; 14 public members, including the Chair, and nine (9) individuals designated to serve as official representative members. The public members are selected from State and local organizations, patient advocacy groups, provider organizations, academic researchers, ethicists, physicians, surgeons, scientists, risk communication experts, consumer advocates, and from among communities of persons who are frequent recipients of blood or blood products or who have received tissues or organs. The nine individuals who are appointed as official representatives are selected to serve the interests of the blood, blood products, tissue and organ professional organizations or business sectors. The representative members are selected from the following groups: The AABB (formerly the American Association of Blood Banks); American Association of Tissue Banks; Eye Bank Association of America; Association of Organ Procurement Organizations; and one of either the American Red Cross or America's Blood Centers. The Committee composition can include additional representation from either the plasma protein fraction community or a trade organization; a manufacturer of blood, plasma, or other tissue/organ test kits; a manufacturer of blood, plasma or other tissue/organ equipment; a major hospital organization; or a major hospital accreditation organization. Where more than one company produces a specified product or process, representatives from those companies shall rotate on the same schedule as public members.

All ACBTSA members are authorized to receive the prescribed per diem allowance and reimbursement for travel expenses that are incurred to attend meetings and conduct Committee-related business, in accordance with Standard Government Travel Regulations. Individuals who are appointed to serve as public members are authorized also to receive a stipend for attending Committee meetings and to carry out other Committee-related business. Individuals who are appointed to serve as representative members for a particular interest group or industry are not authorized to receive a stipend for the performance of these duties.

This announcement is to solicit nominations of qualified candidates to five public member positions on the ACBTSA.

Nominations

In accordance with the charter, persons nominated for appointment as members of the ACBTSA should be among authorities knowledgeable in blood banking, tissue banking, transfusion medicine, organ or tissue transplantation, plasma therapies, transfusion and transplantation safety, bioethics, socioeconomics, health policy/law, and/or related disciplines. Nominations should be typewritten. The following information should be included in the package of material submitted for each individual being nominated for consideration of appointment: (a) The name, return address, daytime telephone number and affiliation(s) of the individual being nominated, the basis for the individual's nomination, the category for which the individual is being nominated, and a statement bearing an original signature of the nominated individual that, if appointed, he or she is willing to serve as a member of the Committee; (b) the name, return address, and daytime telephone number at which the nominator may be contacted. Organizational nominators must identify a principal contact person in addition to the contact; and (c) a copy of a current curriculum vitae or resume for the nominated individual.

Individuals can nominate themselves for consideration of appointment to the Committee. All nominations must include the required information. Incomplete nominations will not be processed for consideration. The letter from the nominator and certification of the nominated individual must bear original signatures; reproduced copies of these signatures are not acceptable.

The Department is legally required to ensure that the membership of HHS Federal advisory committees is fairly balanced in terms of points of view represented and the functions to be performed by the advisory committee. Every effort is made to ensure that the views of women, all ethnic and racial groups, and people with disabilities are represented on HHS Federal Advisory committees and, therefore, the Department encourages nominations of qualified candidates from these groups. The Department also encourages geographic diversity in the composition of the committee. Appointment to this Committee shall be made without discrimination on the basis of age, race, ethnicity, gender, sexual orientation, disability, and cultural, religious, or socioeconomic status.

The Standards of Ethical Conduct for Employees of the Executive Branch are applicable to individuals who are appointed as public members of Federal advisory committees. Individuals appointed to serve as public members of Federal advisory committees are classified as special government employees (SGEs). SGEs are government employees for purposes of the conflict of interest laws. Therefore, individuals appointed to serve as public members of the ACBTSA are subject to an ethics review. The ethics review is conducted to determine if the individual has any interests and/or activities in the private sector that may conflict with performance of their official duties as a member of the Committee. Individuals appointed to serve as public members of the committee will be required to disclose information regarding financial holdings, consultancies, and research grants and/or contracts.

Dated: October 19, 2018.
James J. Berger,
Senior Advisor for Blood and Tissue Policy, Designated Federal Officer, Advisory Committee on Blood and Tissue Safety and Availability.

[FR Doc. 2018-26756 Filed 12-10-18; 8:45 am]

BILLING CODE 4150-41-P